DEPARTMENT OF COMMERCE

National Oceanic and Atmospheric Administration

[RTID 0648-XD527]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Advisory Panel will hold a public meeting.

DATES: The meeting will be held on Monday, December 4, 2023, from 3 p.m. until 6 p.m. For agenda details, see SUPPLEMENTARY INFORMATION.

ADDRESSES: The meeting will be held via webinar. Connection information will be posted prior to the meeting at www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Advisory Panel will meet to review and provided feedback on the Monitoring Committee's recommendations for 2024-2025 recreational management measures for summer flounder and scup and 2024 recreational management measures for black sea bass. The Advisory Panel will also receive a brief update on the Recreational Measures Setting Process Framework/Addenda. Additionally, the Advisory Panel will review recent analysis and stakeholder input on the commercial summer flounder minimum mesh regulations and exemptions (i.e., minimum mesh size regulations, Small Mesh Exemption Program, and the flynet exemption), and provide feedback and recommendations on these issues. Input provided by the Advisory Panel will be considered during the December 2023 joint meeting of the Mid-Atlantic Fishery Management Council and the Atlantic States Marine Fisheries Commission's Summer Flounder, Scup, and Black Sea Bass Management Board.

Special Accommodations

The meeting is physically accessible to people with disabilities. Requests for sign language interpretation or other auxiliary aid should be directed to Shelley Spedden, (302) 526-5251, at least 5 days prior to the meeting date.

Authority: 16 U.S.C. 1801 et seq.

Dated: November 13, 2023.
Rey Israel Marquez,
Acting Deputy Director, Office of Sustainable Fisheries, National Marine Fisheries Service.

[FR Doc. 2023-25357 Filed 11-15-23; 8:45 am]

BILLING CODE 3510-22-P